DEPARTMENT OF ENERGY

Federal Energy Regulatory Commission

[Project No. 13502-000]

Lock + TM Hydro Friends Fund XII, LLC; Notice of Preliminary Permit Application Accepted for Filing and Soliciting Comments, Motions To Intervene, and Competing Applications

August 7, 2009.

On June 5, 2009, Lock + TM Hydro Friends Fund XII, LLC, filed an application, pursuant to section 4(f) of the Federal Power Act, proposing to study the feasibility of the Super Panda Hydroelectric Project, to be located on the Monongahela River, in Allegheny County, Pennsylvania.

The proposed Super Panda Project would be located at the U.S. Army Corps of Engineers Monongahela River Lock and Dam No. 3, in Elizabeth, Pennsylvania.

The proposed project would consist of: (1) A new approximately 110-foot-wide steel lock frame module containing nine turbines with a total installed capacity of 4.96 megawatts which would be installed in the northwest portion of the existing dam; (2) a new concrete-lined conduit which would direct flow to the turbine module; (3) a new switchyard, transformer, and control room which would be located in the northwest portion of the dam; (4) a new 69 kilovolt, approximately 1,000-foot-long transmission line, which would tie-in to the local electric grid; and (5) appurtenant facilities. The Super Panda Project would have an estimated average annual generation of 41,330 megawatts-hours, which would be sold to a local utility.

Applicant Contact: Mr. Wayne F. Krouse, Managing Partner, Lock + Hydro Friends Fund X, 5090 Richmond Avenue #390, Houston, TX 77056, 877-556-6566 x709.

FERC Contact: John Ramer, (202) 502-8969.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13502) in the docket number field to access the document. For assistance, call toll-free 1-866-208-3372.

Nathaniel J. Davis, Sr.,
Deputy Secretary.

[FR Doc. E9-19620 Filed 8-14-09; 8:45 am]

BILLING CODE 6717-01-P